INTERNATIONAL TRADE COMMISSION

[Investigations Nos. 701-TA-A (Review) and 731-TA-157 (Review)]

Carbon Steel Wire Rod From Argentina

Determinations

On the basis of the record ¹ developed in the subject five-year reviews, the United States International Trade Commission determines, pursuant to section 735(b) of the Tariff Act of 1930 (19 U.S.C. 1673d(b)) (the Act), that termination of the suspended countervailing duty investigation and revocation of the antidumping duty order on carbon steel wire rod from Argentina would not likely lead to continuation or recurrence of material injury to an industry in the United States within a reasonably foreseeable time.¹

¹ The record is defined in sec. 207.2(f) of the Commission's Rules of Practice and Procedure (19 CFR § 207.2(f)).

² Chairman Lynn M. Bragg dissenting. Commissioners Jennifer A. Hillman and Deanna Tanner Okun not participating.

Background

The Commission instituted these reviews on November 2, 1998 (63 FR 58756) and determined effective February 14, 1999 (64 FR 8120, February 18, 1999) that it would conduct full reviews. Notice of the scheduling of the Commission's reviews and of a public hearing to be held in connection therewith was given by posting copies of the notice in the Office of the Secretary, U.S. International Trade Commission, Washington, DC, and by publishing the notice in the Federal Register on March 31, 1999 (64 FR 15375). The hearing was held in Washington, DC, on August 3, 1999, and all persons who requested the opportunity were permitted to appear in person or by counsel.

The Commission transmitted its determinations in these investigations to the Secretary of Commerce on January 27, 2000. The views of the Commission are contained in USITC Publication 3270 (January 2000), entitled Carbon Steel Wire Rod from Argentina: Investigations Nos. 701-TA-A (Review and 731-TA-157 (Review).

Issued: January 28, 2000.
By order of the Commission.
Donna R. Koehnke,
Secretary.

[FR Doc. 00-2327 Filed 2-2-00; 8:45 am]

BILLING CODE 7020-02-U